DEPARTMENT OF THE TREASURY

Office of Foreign Assets Control

Designation of Additional Individual Pursuant to Executive Order 13413

AGENCY: Office of Foreign Assets Control, Treasury.

ACTION: Notice.

SUMMARY: The Treasury Department's Office of Foreign Assets Control (“OFAC”) is publishing the name of one individual whose property and interests in property are blocked pursuant to Executive Order 13413 of October 27, 2006, “Blocking Property of Certain Persons Contributing to the Conflict in the Democratic Republic of Congo.”

DATES: The designation by the Director of OFAC of the individual identified in this notice, pursuant to Executive Order 13413, is effective November 30, 2011.

FOR FURTHER INFORMATION CONTACT: Assistant Director, Sanctions Compliance and Evaluation, Office of Foreign Assets Control, Department of the Treasury, 1500 Pennsylvania Ave. NW. (Treasury Annex), Washington, DC 20220, Tel.: (202) 622-2490.

SUPPLEMENTARY INFORMATION:

Electronic and Facsimile Availability

This document and additional information concerning OFAC are available from OFAC's Web site (http://www.treasury.gov/ofac) or via facsimile through a 24-hour fax-on-demand service, Tel.: (202) 622-0077.

Background

On October 27, 2006, the President signed Executive Order 13413 (the “Order” or “E.O. 13413”) pursuant to, inter alia, the International Emergency Economic Powers Act (50 U.S.C. 1701 et. seq.), section 5 of the United Nations Participation Act, as amended (22 U.S.C. 287c), and section 301 of title 3, United States Code. In the Order, the President found that the situation in the Democratic Republic of the Congo constitutes and unusual and extraordinary threat to the foreign policy of the United States and imposed sanctions to address that threat. The President identified seven individuals in the Annex to the Order as subject to these economic sanctions.

Section 1 of the Order blocks, with certain exceptions, all property and interests in property that are in the United States, that come within the United States, or that are or come within the possession or control of any United States person, of the persons listed by the President in the Annex to the Order, and those persons determined by the Secretary of the Treasury, after consultation with the Secretary of State, to meet any of the criteria set forth in subparagraphs (a)(ii)(A)-(a)(ii)(G) of Section 1.

On November 30, 2011, the Director of OFAC, after consultation with the Department of State, designated, pursuant to one or more of the criteria set forth in Section 1 of the Order, the individual listed below, whose property and interests in property therefore are blocked pursuant to E.O. 13413.

The listing of the blocked individual appears as follows:

1. SHEKA, Ntabo Ntaberi; DOB 4 Apr 1976; POB Walikale Territory, Democratic Republic of the Congo; nationality Congo, Democratic Republic of the; Commander in Chief, Nduma Defense of Congo, Mayi Mayi Sheka group (individual) [DRCONGO].

Dated: November 30, 2011.
Adam J. Szubin,
Director, Office of Foreign Assets Control.

[FR Doc. 2011-31209 Filed 12-5-11; 8:45 am]

BILLING CODE 4810-AL-P